DEPARTMENT OF COMMERCE

National Oceanic and Atmospheric Administration

50 CFR Part 660

[RTID 0648-XD471]

Fisheries Off West Coast States; West Coast Salmon Fisheries; Amendment 24 to the Pacific Coast Salmon Fishery Management Plan

AGENCY: National Marine Fisheries Service (NMFS), National Oceanic and Atmospheric Administration (NOAA), Commerce.

ACTION: Notice of agency decision.

SUMMARY: NMFS announces the approval of amendment 24 to the Pacific Salmon Fishery Management Plan (Salmon FMP). The intent of amendment 24 is to clarify the technical process for reviewing updates to the models used to determine the Chinook salmon abundance threshold that may trigger additional management measures to limit the impact of ocean salmon fisheries on Southern Resident killer whales (SRKW). The whales are listed under the Endangered Species Act (ESA) and Chinook salmon, some of which are listed as threatened under the ESA, are their preferred prey. This action is administrative in nature and does not change the formula for calculating the threshold or the fishery management responses currently described in the Salmon FMP.

DATES: The amendment was approved on February 21, 2024.

ADDRESSES: The amended Salmon FMP is available on the Pacific Fishery Management Council's (Council) website (https://www.pcouncil.org).

FOR FURTHER INFORMATION CONTACT: Shannon Penna at 562-980-4239, Shannon.Penna@noaa.gov.

SUPPLEMENTARY INFORMATION:

Background

The ocean salmon fisheries in the exclusive economic zone (EEZ) (3-200 nautical miles; 5.6-370.4 kilometers) seaward of Washington, Oregon, and California are managed under the Salmon FMP. Amendment 24 to the Salmon FMP will clarify the process for review of updates to the models used to determine the Chinook salmon abundance threshold, and the recalculation of the threshold value based on updated model information, by revising Section 6.6.8 of the Salmon FMP. The revised text will not change the approach used to calculate the threshold. Amendment 24 also includes some minor housekeeping edits, such as updates to references and correction of a species name.

The Magnuson-Stevens Fishery Conservation and Management Act (MSA) requires that each regional fishery management council submit any fishery management plan (FMP) or plan amendment it prepares to NMFS for review and approval, disapproval, or partial approval by the Secretary of Commerce (Secretary) (MSA 304(a)). The MSA also requires that NMFS, upon receiving an FMP or plan amendment, immediately publish a notice that the FMP or plan amendment is available for public review and comment.

The Notice of Availability (NOA) for amendment 24 was published in the Federal Register on November 27, 2023 (88 FR 82819), with a 60-day comment period that ended on January 26, 2024.

NMFS determined that amendment 24 is consistent with the MSA and other applicable laws, and the Secretary of Commerce approved amendment 24 on February 21, 2024. The November 27, 2023, NOA contains additional information on this action. Amendment 24 will be implemented through the annual salmon management measures; no changes to existing Federal regulations are necessary.

Public Comment

We received one comment from the public in support of amendment 24.

Authority: 16 U.S.C. 1801 et seq.

Dated: February 21, 2024.
Samuel D. Rauch, III,
Deputy Assistant Administrator for Regulatory Programs, National Marine Fisheries Service.

[FR Doc. 2024-03890 Filed 2-26-24; 8:45 am]

BILLING CODE 3510-22-P